DEPARTMENT OF COMMERCE

International Trade Administration

Notice of 2nd Afghanistan International Carpet Fair

AGENCY: Department of Commerce.

ACTION: Notice.

Mission Statement

2nd Afghanistan International Carpet Fair, October 26-30, 2008

I. Mission Description

The International Trade Administration of the Department of Commerce is organizing the second U.S. carpet trade mission to Kabul, Afghanistan for the Afghanistan International Carpet Fair on October 26-30, 2008. The mission will be open to U.S. rug businesses that have demonstrated experience in the carpet sector and are interested in exploring trade and investment opportunities in Afghanistan's carpet sector. Afghanistan Investment and Reconstruction Task Force Director, Susan Hamrock Mann, will lead a delegation of U.S.-based executives of U.S. firms interested in pursuing business in Afghanistan's carpet sector. The mission will include participation in the Carpet Fair, matchmaking, and networking with Afghan rug vendors and manufacturers. The mission will reaffirm the U.S. Government's support of bilateral relations, address the Department's commitment to helping Afghanistan develop sectors in which it has a comparative advantage, and seek to expand opportunities for U.S. companies in Afghanistan.

II. Commercial Setting

The mission will take place during a crucial time in Afghanistan's economic reemergence. Approximately 6 million Afghans are employed in the carpet sector directly or indirectly. Afghanistan has a comparative advantage in producing hand woven carpets, putting this sector on the cutting edge of Afghanistan's reintegration into the global economy. Afghanistan's carpets have a rich legacy of artistry and craftsmanship, which has been handed down through many generations. Each type of carpet is unique to the location in which it was produced and inspired. Afghanistan produces various types of carpets woven out of wool, silk, and cotton.

Due to the current lack of finishing facilities, Afghanistan sends more than eighty percent of its carpets to Pakistan, where they are finished and labeled “made in Pakistan.” This Trade Mission will enable delegates to explore opportunities for investing in carpet producing facilities and exporting textile equipment to Afghanistan. As such, the Mission could play a valuable role in preserving the brand identity of Afghan carpets, by helping producers to finish and export their own production.

The Afghan Government is helping Afghan carpet producers connect their craftsmanship to the world. In conjunction with the U.S. Department of Commerce, the Government of Afghanistan organized three previous delegations of Afghan carpet producers to visit the United States. In July 2006, a delegation visited major retailers and importers in New York, Atlanta, and Washington, DC. In January 2007, a second delegation attended the AmericasMart International Area Rug Market in Atlanta, where Afghanistan's carpets were part of a major cultural showcase. In January 2008, a third delegation participated in the Las Vegas Market at the World Market Center, where Afghan carpets and cultural items were prominently displayed at the show.

This 2nd Afghanistan International Carpet Fair will provide an opportunity for Afghan carpet producers and U.S. buyers to network, create business relationships, and allow U.S. buyers to explore investment opportunities in the sector. The Trade Mission presents a unique opportunity for seasoned U.S. professionals to partner with Afghan carpet producers as Afghanistan strives to re-establish its leadership position in the global carpet business.

III. Mission Goals

The mission aims to further U.S. commercial policy objectives and to advance specific U.S. business interests in the U.S. and Afghan carpet sectors. The mission will:

• Create an opportunity for U.S. companies to meet and network with Afghan carpet producers;

• Assist Afghan carpet producers in creating long-term relationships with U.S. companies;

• Assist Afghan carpet producers with finding distributors for their carpets in the U.S.;

• Assess the commercial climate of Afghanistan's carpet sector as well as export and investment opportunities in Afghanistan; and

• Encourage continued progress in economic development in Afghanistan.

IV. Mission Scenario

This mission will enable participants to gain access to the Afghan carpet market on a large scale. The mission will include VIP participation in the carpet fair. Participants will be part of the carpet fair's opening night-VIP reception with high-level Afghan government officials. The event will provide opportunities to network with at least 70 different Afghan carpet vendors at the show. The show will feature a broad range of carpets from across Afghanistan's diverse landscape. Networking will also include one-on-one meetings between the U.S. business delegates and Afghan companies.

V. Tentative Timetable

The precise schedule will depend on the availability of local government and business officials and the specific goals of the mission participants. The tentative trip itinerary will be as follows:

Tuesday, October 26

Arrive in Kabul;

Attend opening reception for the Afghanistan International Carpet Fair, Serena Hotel;

Meet with high-level U.S. and Afghan Government officials.

Wednesday, October 27

Attend Afghanistan International Carpet Fair;

Networking between buyers and sellers;

One-on-one meetings between buyers and sellers.

Thursday, October 28-Friday, October 29

Attend Afghanistan International Carpet Fair;

Networking between buyers and sellers;

One-on-one meetings between buyers and sellers.

Saturday, October 30

Depart Kabul (TBC).

Participation Requirements

All parties interested in participating in the 2nd U.S. Carpet Trade Mission to the Afghanistan International Carpet Fair in Kabul, Afghanistan must complete and submit an application package for consideration by the Department of Commerce. All applicants will be evaluated on their ability to meet certain conditions and best satisfy the selection criteria as outlined below. This trade mission is designed for a minimum of 5 and a maximum of 10 qualified companies. Participating companies must be incorporated or otherwise organized in the United States.

There are no fees for participation in this mission. Lodging expenses including three nights in the four-star Serena Hotel in Kabul will be covered by the Export Promotion Agency of Afghanistan. Necessary transportation including airport pickup will be provided by the U.S. Embassy in Kabul, Afghanistan. Expenses for travel to Kabul, meals, and incidentals will be the responsibility of each mission participant.

Conditions for Participation:

• An applicant must submit a completed and signed mission application and supplemental application materials, including adequate information on the company's: Products and/or services, primary market objectives, and goals for participation. If we receive an incomplete application, we may either reject the application, request additional information, or take the lack of information into account when we evaluate the applications.

Selection Criteria for Participation:

• Consistency of company's goals with the scope and desired outcome of the mission;

• Capacity and intent to import goods from Afghanistan, export equipment consistent with the scope and desired outcome of the mission, or capacity and intent to invest in Afghanistan. Timely receipt of the company's signed and completed application, participation agreement.

Additionally, U.S. exporters applying for this mission, such as carpet finishing machinery manufacturers or distributors, must certify that the company's products or services are either produced in the United States, or, if not, are marketed under the name of a U.S. firm and have at least fifty-one percent U.S. content. The production and content requirements do not apply to U.S. buyer and U.S. investor applicants.

Referrals from political organizations and any documents, including the application, containing references to partisan political activities (including political contributions) will be removed from an applicant's submission and not considered during the selection process.

VIII. Timeframe for Recruitment and Applications

Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The Office of Business Liaison and the International Trade Administration will explore and welcome outreach assistance from other interested organizations, including other U.S. Government agencies.

Applications for the Mission will be made available July XX, 2008 through August 1, 2008. Applications can be completed on-line on the Afghanistan Investment and Reconstruction Task Force Web site at http://www.trade.gov/afghanistan or can be obtained by contacting the U.S. Department of Commerce Afghanistan Investment and Reconstruction Task Force at 202-482-1812, AfghanInfo@mail.doc.gov, or via the contact information below.

The application deadline is August 1, 2008. Completed applications should be submitted to the Afghanistan Investment and Reconstruction Task Force. Applications received after August 1, 2008 will be considered only if space and scheduling constraints permit.

Disclaimer: Trade mission members participate in the trade mission and undertake related travel at their own risk and are advised to obtain insurance accordingly. Any question regarding insurance coverage must be resolved by the participant and its insurer of choice. The U.S. Government does not make any representations or guarantees as to the safety or security of participants. Companies should consult the State Department's travel warning for Afghanistan: http://travel.state.gov/travel/cis_pa_tw/tw/tw_921.html. ITA will coordinate with the U.S. Embassy in Kabul to arrange for transportation of the mission participants to and from the airport and hotel. Transportation for certain optional activities, including visits to commercial sites in Kabul, may be provided by the Export Promotion Agency of Afghanistan. The hotel that will be the primary venue for the mission is a luxury hotel and does have strong security measures in place.

The U.S. Government does not make any representations or guarantees as to the commercial success of businesses which participate in this trade mission.

Contact Information: Noor Alam, Afghanistan Investment and Reconstruction Task Force, U.S. Department of Commerce, Washington, DC 20230, Tel: (202) 482-1812, Fax: (202) 482-0980, e-mail: AfghanInfo@ita.doc.gov.

Noor Alam,
International Trade Specialist, Afghanistan Investment and Reconstruction Task Force, U.S. Department of Commerce.

[FR Doc. E8-20917 Filed 9-8-08; 8:45 am]

BILLING CODE 3510-DS-P